Executive Order 13487 of January 16, 2009

Establishment of a Temporary Organization To Facilitate United States Government Support for Afghanistan

By the authority vested in me as President by the Constitution and the laws of the United States of America, including section 202 of the Revised Statutes (22 U.S.C. 2656) and section 3161 of title 5, United States Code, it is hereby ordered as follows:

Section 1. Establishment. There is established within the Department of State, in accordance with section 3161 of title 5, United States Code, a temporary organization to be known as the Afghanistan Support Office (ASO).

Sec. 2. Purpose of the Temporary Organization. The purpose of the ASO shall be to perform the specific project of supporting executive departments and agencies in preventing Afghanistan from becoming a safe haven for terrorists, facilitating Afghanistan's progress to self-sufficiency, and maintaining an effective diplomatic presence in Afghanistan.

Sec. 3. Functions of the Temporary Organization. In carrying out its purpose set forth in section 2, the ASO shall:

(a) support executive departments and agencies in building the civilian capabilities of the Government of Afghanistan, including expansion of central services by the Government of Afghanistan, development of a thriving private sector economy, and improvement in the governance of Afghanistan's territory and borders; and

(b) perform such other functions related to the specific project set forth in section 2 as the Secretary of State (Secretary) may assign.

Sec. 4. Personnel and Administration. The ASO shall be headed by a Director selected by the Secretary. The ASO shall be jointly based in Washington, D.C., and Afghanistan, and the Secretary of State shall seek accreditation of employees as members of the United States Embassy Kabul as necessary.

Sec. 5. General Provisions. (a) This order shall be implemented in accordance with applicable law, subject to the availability of appropriations, and consistent with presidential guidance.

(b) This order is not intended to, and does not, create any right or benefit, substantive or procedural, enforceable at law or in equity, by any party against the United States, its agencies, instrumentalities, or entities, its officers, employees, or agents, or any other person.

(c) The ASO shall terminate at the end of the maximum period permitted by section 3161(a)(1) of title 5, United States Code, unless sooner terminated by the Secretary.

THE WHITE HOUSE,

January 16, 2009

[FR Doc. E9-1538

Filed 1-21-09; 11:15 am]

Billing code 3195-W9-P